DEPARTMENT OF TRANSPORTATION

Federal Aviation Administration

14 CFR Part 39

[Docket No. FAA-2010-0102; Directorate Identifier 2010-NE-09-AD]

RIN 2120-AA64

Airworthiness Directives; Ontic Engineering and Manufacturing, Inc. Propeller Governors, Part Numbers C210776, T210761, D210760, and J210761

AGENCY: Federal Aviation Administration (FAA), DOT.

ACTION: Notice of proposed rulemaking (NPRM).

SUMMARY: The FAA proposes to adopt a new airworthiness directive (AD) for certain serial numbers (S/Ns) of Ontic Engineering and Manufacturing, Inc. propeller governors, part numbers (P/Ns) C210776, T210761, D210760, and J210761. This proposed AD would require removal of the affected propeller governors from service. This proposed AD results from three reports received of failed propeller governors. We are proposing this AD to prevent loss of propeller pitch control, damage to the propeller governor, and internal damage to the engine, which could prevent continued safe flight or safe landing.

DATES: We must receive any comments on this proposed AD by May 14, 2010.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Ontic Engineering and Manufacturing, Inc., 20400 Plummer Sreet, Chatsworth, CA 91311, e-mail: Bill.nolan@ontic.com; telephone (818) 725-2323; fax (818) 725-2535; or e-mail: Susan.hunt@ontic.com; telephone (818) 725-2121; fax (818) 725-2535, or on the Web at http://www.ontic.com/pdf/SB-DES-353_Rev_A.pdf for a copy of the service information identified in this proposed AD.

FOR FURTHER INFORMATION CONTACT: Roger Pesuit, Aerospace Engineer, Los Angeles Aircraft Certification Office, FAA, Transport Airplane Directorate, 3960 Paramount Blvd., Lakewood, CA 90712; e-mail: roger.pesuit@faa.gov; telephone (562) 627-5251, fax (562) 627-5210.

SUPPLEMENTARY INFORMATION:

Comments Invited

We invite you to send us any written relevant data, views, or arguments regarding this proposal. Send your comments to an address listed under ADDRESSES. Include “Docket No. FAA-2010-0102; Directorate Identifier 2010-NE-09-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

We received three reports of failure of Ontic Engineering and Manufacturing, Inc. propeller governors. One of the reports was of a Diamond DA-40 airplane losing propeller pitch control during flight. The propeller governor controls propeller pitch by regulating oil pressure to the propeller pitch change mechanism. Changes in governor oil pressure are made by small changes in axial displacement of the governor's pilot valve plunger assembly. A fly weight governor opposes a compressed spring that rides on a collar which forms a part of the pilot valve plunger assembly. Investigation revealed that the set screw securing the collar to the pilot valve plunger assembly shaft may not be installed properly on a batch of parts permitting the pilot valve plunger to float on the shaft. The pilot valve shaft plunger and captive thrust bearing are then free to move axially along the pilot valve shaft. When the pilot valve is unconstrained in the axial direction, the propeller governor cannot control oil pressure to the propeller pitch control mechanism. This results in a loss of propeller pitch control. Further, concurrent thrust bearing failure permits bearing debris to flow with the oil into the engine lubrication system. The engine in the incident airplane was internally damaged as a result of a propeller governor bearing ball becoming lodged between the valve lifter and engine case. This condition, if not corrected, could result in loss of propeller pitch control, damage to the propeller governor, and internal damage to the engine, which could prevent continued safe flight or safe landing.

Relevant Service Information

We have reviewed and approved the technical contents of Ontic Engineering and Manufacturing, Inc. Mandatory Service Bulletin (MSB) No. SB-DES-353, Revision A, dated December 16, 2009. That MSB lists the affected propeller governors by P/N and S/N, and describes procedures for returning them to the manufacturer for repair.

FAA's Determination and Requirements of the Proposed AD

We have evaluated all pertinent information and identified an unsafe condition that is likely to exist or develop on other products of this same type design. We are proposing this AD, which would require removal of affected propeller governors from service. The proposed AD would require you to use the service information described previously to identify the affected S/Ns of propeller governors.

Costs of Compliance

We estimate that this proposed AD would affect 45 propeller governors installed on airplanes of U.S. registry. We also estimate that it would take about four work-hours per airplane to perform the proposed actions, and that the average labor rate is $85 per work-hour. Required repair parts would cost about $842 per propeller governor. Based on these figures, we estimate the total cost of the proposed AD to U.S. operators to be $83,790. Our cost estimate is exclusive of possible warranty coverage.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. You may get a copy of this summary at the address listed under ADDRESSES.

List of Subjects in 14 CFR Part 39

Air transportation, Aircraft, Aviation safety, Incorporation by reference, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Ontic Engineering and Manufacturing, Inc.: Docket No. FAA-2010-0102; Directorate Identifier 2010-NE-09-AD.

Comments Due Date

(a) The Federal Aviation Administration (FAA) must receive comments on this airworthiness directive (AD) action by May 14, 2010.

Affected ADs

(b) None.

Applicability

(c) This AD applies to Ontic Engineering and Manufacturing, Inc. propeller governors, part numbers (P/Ns) C210776, T210761, D210760, and J210761, as listed by serial number on pages 3 and 4 of Ontic Engineering and Manufacturing, Inc. Mandatory Service Bulletin (MSB) No. SB-DES-353, Revision A, dated December 16, 2009.

(d) These propeller governors are installed on, but not limited to, American Champion Aircraft Corporation Model 7GCAA (governor P/N T210761), Diamond Aircraft Industries, Inc. Model DA-40 (governor P/N C210776), Hawker Beechcraft Model A36 (governor P/N D210760), and Industria Aeronautica Neiva S/A (subsidiary of Embraer) model EMB-202A (governor P/N J210761) airplanes.

Unsafe Condition

(e) This AD results from three reports received of failed propeller governors. We are issuing this AD to prevent loss of propeller pitch control, damage to the propeller governor, and internal damage to the engine, which could prevent continued safe flight or safe landing.

Compliance

(f) You are responsible for having the actions required by this AD performed within 100 flight hours after the effective date of this AD, unless the actions have already been done.

(g) Remove affected propeller governors from service.

(h) After the effective date of this AD, do not install an affected propeller governor unless it has been inspected, repaired, and permanently marked with “SB-DES-353 Rev. A Date * * *.” near the data plate, by Ontic Engineering and Manufacturing, Inc.

Alternative Methods of Compliance

(i) The Manager, Los Angeles Aircraft Certification Office, has the authority to approve alternative methods of compliance for this AD if requested using the procedures found in 14 CFR 39.19.

Related Information

(j) Contact Roger Pesuit, Aerospace Engineer, Los Angeles Aircraft Certification Office, FAA, Transport Airplane Directorate, 3960 Paramount Blvd., Lakewood, CA 90712; e-mail: roger.pesuit@faa.gov; telephone (562) 627-5251, fax (562) 627-5210, for more information about this AD.

(k) Ontic Engineering and Manufacturing, Inc. MSB No. SB-DES-353, Revision A, dated December 16, 2009, pertains to the subject of this AD. Contact Ontic Engineering and Manufacturing, Inc., 20400 Plummer Street, Chatsworth, CA 91311, e-mail: Bill.nolan@ontic.com; telephone (818) 725-2323; fax (818) 725-2535; or e-mail: Susan.hunt@ontic.com; telephone (818) 725-2121; fax (818) 725-2535, or on the Web at http://www.ontic.com/pdf/SB-DES-353_Rev_A.pdf for a copy of this service information.

Issued in Burlington, Massachusetts, on March 5, 2010.
Peter A. White,
Assistant Manager, Engine and Propeller Directorate, Aircraft Certification Service.

[FR Doc. 2010-5549 Filed 3-12-10; 8:45 am]

BILLING CODE 4910-13-P